DEPARTMENT OF JUSTICE

Notice of Lodging of the Proposed Second Amended Consent Decree Under the Clean Water Act

On November 9, 2017, the Department of Justice lodged a proposed Second Amended Consent Decree with the United States District Court for the Western District of Missouri in the lawsuit entitled United States v. The City of Kansas City, Missouri, Civil Action No. 4:10-cv-0497-GAF, proposing to modify the implementation schedule for certain injunctive measures required under the original Consent Decree entered in this matter on September 27, 2010, resolving Kansas City's alleged violations of the Clean Water Act (“CWA” or “Act”).

The Consent Decree (“CD”) requires, among other measures intended to reduce or eliminate sewage overflows from Kansas City's sewer system, that Kansas City (“KC”) construct additional storage capacity to hold sewage for treatment during high flow periods, install thousands of feet of additional sewer piping, separate areas of combined storm and sanitary sewer, and install new pumps to convey flows in areas inadequately served by gravity flow. The City has requested this Amendment to allow for adjustments to the scope, nature, and/or timing of the implementation of specified aspects of the foregoing requirements, as detailed in the Proposed Second Amendment, in order to optimize the benefits and efficient implementation of these requirements. The State of Missouri, a non-aligned statutory party to this action, agrees with the proposed Amendment.

The publication of this notice opens a period for public comment on the proposed Second Amended Consent Decree. Comments should be addressed to the Assistant Attorney General, Environment and Natural Resources Division, and should refer to United States v. Kansas City, Civil Action No. 4:10-cv-0497-GAF. DJ Reference Number 90-5-1-1-06438/1.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, Consent Decree may be examined and downloaded at this Justice Department Web site: https://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Susan M. Akers,
Assistant Section Chief, Environmental Enforcement Section, Environment and Natural Resources Division.

[FR Doc. 2017-24872 Filed 11-15-17; 8:45 am]

BILLING CODE 4410-15-P